DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains and associated funerary objects in consultation with the appropriate Indian tribes, and has determined that there is no cultural affiliation between the remains and any present-day Indian tribe. Representatives of any Indian tribe that believes itself to be culturally affiliated with the human remains may contact the Minnesota Indian Affairs Council. Disposition of the human remains and associated funerary objects to the Indian tribes stated below may occur if no additional requestors come forward.

DATES: Representatives of any Indian tribe that believes it has a cultural affiliation with the human remains should contact the Minnesota Indian Affairs Council at the address below by February 13, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains and associated funerary objects in the possession of the Minnesota Indian Affairs Council (MIAC). The human remains and associated funerary objects were removed from Becker and Wadena counties, MN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the MIAC professional staff in consultation with representatives of the Leech Lake Band of the Minnesota Chippewa Tribe, Minnesota; the Minnesota Chippewa Tribe, Minnesota; and the White Earth Band of Minnesota Chippewa Tribe, Minnesota.

History and Description of the Remains

In 1970, human remains representing, at minimum, one individual were removed from the Dunton Locks area, Becker County, MN, by unknown person(s) and donated to the Becker County Historical Society (HR-1). In 1997, the human remains were transferred to the Minnesota Office of the State Archaeologist and subsequently transferred to the MIAC (H366) in 1999. No known individuals were identified. No associated funerary objects are present.

The red ochre staining on the human remains is consistent with American Indian mortuary practices over a broad temporal span and cannot be associated with any single archeological tradition. The human remains have no archeological classification and cannot be associated with any present-day Indian tribe.

In 1955, human remains representing, at minimum, two individuals were removed from the Rock Lake area, Becker County, MN, by unknown person(s) and donated to the Becker County Historical Society (HR-2). In 1997, the human remains were transferred to the Minnesota Office of the State Archaeologist and subsequently transferred to the MIAC (H364) in 1999. No known individuals were identified. No associated funerary objects are present.

The human remains have no archeological classification and cannot be associated with any present-day Indian tribe.

In the 1980s, human remains representing, at minimum, two individuals were recovered from site 21BK37, Buck's Mill (aka Hildebrand site). The remains were collected by Mr. Hildebrand, the property owner, during construction of a garage and were donated to the Becker County Historical Society (HR-3). In 1997, the human remains were transferred to the Minnesota Office of the State Archaeologist and subsequently transferred to the MIAC (H365) in 1999. No known individuals were identified. No associated funerary objects are present. Additional individuals were removed from this site in 1985, a notice of inventory completion was published in the Federal Register (FR 64 FR 43212, September 8, 1999) and the human remains from the 1985 collection were repatriated and reburied.

Site 21BK37 has no archeological classification. The human remains cannot be associated with any present-day Indian tribe.

In 1954, human remains representing, at minimum, four individuals were recovered from the north shore of Detroit Lake (Steffen Lot), Becker County, MN, by unknown person(s) during basement construction and donated to the Becker County Historical Society (HR-5). In 1997, the human remains were transferred to the Minnesota Office of the State Archeologist and then to the MIAC (H363). No known individuals were identified. The twelve associated funerary objects include three bone needles made from the ribs of a black bear, six pieces of modified rib bone from a black bear, two unmodified fibulae from a black bear and one piece of quartz with red ochre pigment.

The human remains are associated with the Archaic Tradition, a broad archeological classification which cannot be associated with any present-day Indian tribe.

In 1888, human remains representing, at minimum, four individuals were recovered from a mound in the city of Detroit Lakes, Becker County, MN, by Rev. W.A. Pratt and donated to the Becker County Historical Society (HR-6). In 1997, the human remains were transferred to the Minnesota Office of the State Archaeologist and subsequently transferred to MIAC (H361) in 1999. No known individuals were identified. No associated funerary objects are present.

The human remains are associated with the Woodland Tradition, a broad archeological classification which cannot be associated with any present-day Indian tribe.

In 1935, human remains representing, at minimum, three individuals were recovered from a mound (Mound Z/1), site 21BK9, on the north shore of Detroit Lake, MN, by Otto Zeck. At an unknown date, the human remains were transferred to J. Oothoudt who then transferred the human remains to the Minnesota Office of the State Archaeologist. In 2002, the remains were transferred to the MIAC (H383). No known individuals were identified. No associated funerary objects are present.

The context of burial in a mound identifies the human remains with the Woodland Tradition, a broad archeological classification which cannot be associated with any present-day Indian tribe.

In 2001, human remains representing, at minimum, one individual were recovered from the Crow Wing River, Wadena County, MN, by two swimmers while wading in the river. The human remains were turned over to the Wadena County Sheriff's Department, who transferred them to the Minnesota Bureau of Criminal Apprehension and then to the Minnesota Office of the State Archaeologist. In 2004, the human remains were transferred to the MIAC (H408). No known individuals were identified. No associated funerary objects are present.

The condition and morphology of the human remains, in addition to a radiocarbon date (AD 1290-1420) obtained by the Minnesota Bureau of Criminal Apprehension, indicate pre-contact American Indian affiliation. The human remains have no archeological classification and cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and associated funerary objects and any present-day Indian tribe.

• According to final judgments of the Indian Claims Commission, the land from which the Native American human remains and associated funerary objects were removed is the aboriginal land of the Leech Lake Band of the Minnesota Chippewa Tribe, Minnesota; the Minnesota Chippewa Tribe, Minnesota and the White Earth Band of Minnesota Chippewa Tribe, Minnesota.

• Pursuant to 25 U.S.C. 3001(9), the human remains described in this notice represent the physical remains of 17 individuals of Native American ancestry.

• Pursuant to 25 U.S.C. 3001(3)(A) the 12 objects described above are reasonably believed to have been placed with or near individual human remains at the time of death or later as part of the death rite or ceremony.

• Pursuant to 43 CFR 10.11(c)(1), the disposition of the human remains is to the Leech Lake Band of the Minnesota Chippewa Tribe, Minnesota; the Minnesota Chippewa Tribe, Minnesota and the White Earth Band of Minnesota Chippewa Tribe, Minnesota.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before February 13, 2012. Disposition of the human remains to the Leech Lake Band of the Minnesota Chippewa Tribe, Minnesota; the Minnesota Chippewa Tribe, Minnesota and the White Earth Band of Minnesota Chippewa Tribe, Minnesota may proceed after that date if no additional requestors come forward.

The Minnesota Indian Affairs Council is responsible for notifying the Leech Lake Band of the Minnesota Chippewa Tribe, Minnesota; the Minnesota Chippewa Tribe, Minnesota and the White Earth Band of Minnesota Chippewa Tribe, Minnesota that this notice has been published.

Dated: January 9, 2012.
Sherry Hutt,
Manager, National NAGPRA Program.

[FR Doc. 2012-516 Filed 1-12-12; 8:45 am]

BILLING CODE 4312-50-P